Proclamation 8651 of April 8, 2011

Pan American Day and Pan American Week, 2011

By the President of the United States of America

A Proclamation

Throughout Pan American Day and Pan American Week, we celebrate the close partnerships across our hemisphere that advance the ability of our citizens to enjoy freedom and reach for their highest aspirations. Every day, the future is being forged by the countries and peoples of the Americas. The world must now recognize the Americas as a whole as a dynamic and growing region, because the Americas are democratic and at peace, and we are coming together to address shared challenges. Increasingly, our hemisphere is contributing to global prosperity and security. The bonds between our people are rooted not only in mutual respect and shared interests and responsibilities, but also in common values. As the nations of the Americas continue to grow, progress, and address the challenges of our day, our friendships will be more important than ever to attaining and maintaining security and prosperity for all.

This year, the Americas can celebrate milestones that have strengthened the ties between our societies. More than 60 years ago, our nations came together in an Organization of American States and declared that “representative democracy is an indispensable condition for the stability, peace, and development of the region.” A decade ago, we reaffirmed this principle, with an Inter-American Democratic Charter that stated “the people of the Americas have a right to democracy and their governments have an obligation to promote and defend it.” This year, we also observe the United Nations’ and the Organization of American States’ designation of 2011 as the International Year for People of African Descent, an opportunity to recognize the myriad ways that men and women of African descent have strengthened our countries and enriched our societies.

The Americas demonstrate to countries around the world the strength of democracy as a means of supporting people’s yearnings for freedom and the pursuit of happiness, but we know our work is far from finished. Many citizens in our region live in poverty or lack access to jobs and economic opportunity, and some suffer injustice and human rights violations, including freedom of expression. In Haiti and in other places where natural disasters have struck, many lack access to basic necessities. As we come together to build our economies, increase cooperation on citizen security and trade, and promote democracy, we know our friendships, partnerships, and shared principles will help us overcome today’s challenges and build a safer and more prosperous future.

As we celebrate Pan American Day and Pan American Week, let us reemphasize the cooperation between all nations of the Americas as a vital part of our interconnected world. Together, we will continue to build on our partnerships of equality and shared responsibility and demonstrate that change is possible, every nation can be free, and there can be no denying the dignity and human rights our countries uphold.

NOW, THEREFORE, I, BARACK OBAMA, President of the United States of America, by virtue of the authority vested in me by the Constitution and the laws of the United States, do hereby proclaim April 14, 2011, as Pan American Day and April 10 through April 16, 2011, as Pan American Week. I urge the Governors of the 50 States, the Governor of the Commonwealth of Puerto Rico, and the officials of other areas under the flag of the United States of America to honor these observances with appropriate ceremonies and activities.

IN WITNESS WHEREOF, I have hereunto set my hand this eighth day of April, in the year of our Lord two thousand eleven, and of the Independence of the United States of America the two hundred and thirty-fifth.

[FR Doc. 2011-9143

Filed 4-12-11; 11:15 am]

Billing code 3195-W1-P